DEPARTMENT OF STATE

[Public Notice 5072]

Advisory Committee on Internatioinal Economic Policy; Notice of Open Meeting

The Advisory Committee on International Economic Policy (ACIEP) will meet from 1:30 p.m. to 4:30 p.m. on Thursday, July 14, 2005, in Room 1107, U.S. Department of State, 2201 C Street NW., Washington, DC. The meeting will be hosted by Assistant Secretary of State for Economic and Business Affairs E. Anthony Wayne and Committee Chairman R. Michael Gadbaw. Topics for the meeting are (1) Recent developments in U.S.-European cooperation, (2) the Security and Prosperity Partnership, and (3) U.S.-Russia economic relations. The ACIEP serves the U.S. Government in a solely advisory capacity concerning issues and problems in international economic policy.

This meeting is open to the public as seating capacity allows. Entry to the building is controlled and will be facilitated by advance arrangements. Members of the public planning to attend should provide, by July 11, their name, professional affiliation, social security number (or other identification, such as driver's license), date of birth, and citizenship to Gwendolyn Jackson by fax (202) 647-5936, e-mail (jacksongl@state.gov), or telephone (202) 647-0847.

For additional information, contact David Freudenwald, Office of Economic Policy and Public Diplomacy, Bureau of Economic and Business Affairs, at (202) 647-2231 or freudenwalddj@state.gov.

Dated: June 7, 2005.
Daniel Clune,
Office Director, Office of Economic Policy Analysis and Public Diplomacy, Department of State.

[FR Doc. 05-11819 Filed 6-14-05; 8:45 am]

BILLING CODE 4710-07-P